DEPARTMENT OF COMMERCE

National Oceanic and Atmospheric Administration

15 CFR Part 922

Designation of Lake Ontario National Marine Sanctuary; Notification of Effective Date

AGENCY: Office of National Marine Sanctuaries, National Ocean Service, National Oceanic and Atmospheric Administration, Department of Commerce.

ACTION: Notification of effective date of final rule.

SUMMARY: The National Oceanic and Atmospheric Administration is providing notice that the final rule published on June 6, 2023, to designate Lake Ontario National Marine Sanctuary (LONMS), is effective on July 22, 2024.

DATES: The final rule to designate LONMS, which was published in the Federal Register (89 FR 48272) on June 6, 2024, is effective July 22, 2024.

FOR FURTHER INFORMATION CONTACT: Ellen Brody, Great Lakes Regional Coordinator, 4840 South State Road, Ann Arbor, MI 48108-9719, ellen.brody@noaa.gov, 734-741-2270.

SUPPLEMENTARY INFORMATION: Pursuant to Section 304(b) of the National Marine Sanctuaries Act (NMSA) (16 U.S.C. 1434(b)), NOAA published the designation and final regulations to implement the designation of LONMS on June 6, 2024 (89 FR 48272). As required by the NMSA, the designation and regulations would become effective following the close of a review period of 45 days of continuous session of Congress beginning on the date of publication. The regulations are effective on July 22, 2024.

As discussed in the final rule, NOAA is staying the effective date of § 922.223(a)(3), which prohibits grappling into or anchoring on shipwreck sites, until July 21, 2026. All other regulatory provisions became effective on July 22, 2024.

List of Subjects in 15 CFR Part 922

Administrative practice and procedure, Coastal zone, Cultural resources, Historic preservation, Marine protected areas, Marine resources, National marine sanctuaries, Recreation and recreation areas, Reporting and recordkeeping requirements, Shipwrecks.

John Armor,
Director, Office of National Marine Sanctuaries, National Ocean Service, National Oceanic and Atmospheric Administration.

[FR Doc. 2024-15333 Filed 7-22-24; 8:45 am]

BILLING CODE 3510-NK-P